NUCLEAR REGULATORY COMMISSION

[NRC-2015-0045]

Reviewing and Assessing the Financial Condition of Operating Power Reactor Licensees, Including Requests for Additional Information

AGENCY: Nuclear Regulatory Commission.

ACTION: Interim staff guidance; issuance.

SUMMARY: The U.S. Nuclear Regulatory Commission (NRC) is issuing Interim Staff Guidance (ISG), OL/FR-ISG-2014-01, “Reviewing and Assessing the Financial Condition of Operating Power Reactor Licensees, Including Requests for Additional Information,” dated February 17, 2015. The ISG provides clarifying guidance to the NRC staff when reviewing licensee financial information, and when requesting additional information regarding licensee financial conditions, as authorized under the NRC's regulations. Such review and inquiry are performed by NRC staff for currently operating power reactor licensees, absent a licensing action such as a license transfer.

DATES: The ISG is available March 4, 2015.

ADDRESSES: Please refer to Docket ID NRC-2015-0045 when contacting the NRC about the availability of information regarding this document. You may obtain publicly-available information related to this document using any of the following methods:

• Federal Rulemaking Web site: Go to http://www.regulations.gov and search for Docket ID NRC-2015-0045. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The ISG is available in ADAMS under Accession No. ML14218A625.

• NRC's PDR: You may examine and purchase copies of public documents at the NRC's PDR, Room O1-F21, One White Flint North, 11555 Rockville Pike, Rockville, Maryland 20852.

FOR FURTHER INFORMATION CONTACT: Richard Turtil, Office of Nuclear Reactor Regulation, U.S. Nuclear Regulatory Commission, Washington, DC 20555-0001; telephone: 301-415-2308; email: Richard.Turtil@nrc.gov.

SUPPLEMENTARY INFORMATION:

I. Discussion

The purpose of this ISG is to clarify the process by which the NRC will review financial conditions of, and financial concerns about, currently operating power reactor licensees. This guidance is intended to provide consistency and transparency with regard to the NRC's financial review process for licensees (in the absence of a license transfer or other similar licensing action). It addresses the NRC's basis for financial Requests for Additional Information from licensees during operations, the NRC staff's evaluation of Requests for Additional Information responses, and the closure of such inquiries. This ISG is intended to enhance the NRC's financial review guidance presented in Section III(1)(d)—Post-OL Non-transfer Reviews, of NUREG-1577, Revision 1, “Standard Review Plan on Power Reactor Licensee Financial Qualifications and Decommissioning Funding Assurance,” dated December 2001, (ADAMS Accession No. ML013330264). The guidance in this ISG will be included in the next update to NUREG-1577.

II. Backfitting and Issue Finality

The NRC is issuing interim guidance for the NRC staff regarding its review of operating power reactor licensees' financial information. Issuance of the ISG does not constitute backfitting as defined in § 50.109 of Title 10 of the Code of Federal Regulations (10 CFR) (the Backfit Rule) and is not otherwise inconsistent with the issue finality provisions in 10 CFR part 52. The NRC's position is based upon the following considerations.

1. The ISG positions do not constitute backfitting, inasmuch as the ISG is internal guidance to NRC staff.

The ISG provides interim guidance to the NRC staff on how to review licensees' financial information and request additional financial information. Changes in internal staff guidance are not matters for which applicants or licensees are protected under 10 CFR 50.109 or issue finality provisions in 10 CFR part 52.

2. The NRC has no intention to impose the ISG on existing nuclear power plant licenses either now or in the future (absent a voluntary request for change from the licensee).

The NRC staff does not intend to impose or apply the positions described in the ISG to existing (already issued) licenses (e.g., operating licenses and combined licenses). Hence, the ISG—even if considered guidance which is within the purview of the issue finality provisions in 10 CFR part 52—need not be evaluated as if it were a backfit or as being inconsistent with issue finality provisions.

Even if, in the future, the NRC staff seeks to impose a position in the ISG on holders of already issued licenses, such imposition would not provide any basis for the Backfit Rule or issue finality provisions to apply. The ISG concerns, in part, the NRC's request for operating power reactor licensees' financial information. Information collection and reporting requirements such as these are not subject to the Backfit Rule and issue finality provisions.

III. Congressional Review Act

This action is a rule as defined in the Congressional Review Act (5 U.S.C. 801-808). However, the Office of Management and Budget has not found it to be a major rule as defined in the Congressional Review Act.

Dated at Rockville, Maryland, this 17th day of February 2015.
For the Nuclear Regulatory Commission.
Scott A. Morris,
Director, Division of Inspection and Regional Support, Office of Nuclear Reactor Regulation.

[FR Doc. 2015-04479 Filed 3-3-15; 8:45 am]

BILLING CODE 7590-01-P